FEDERAL TRADE COMMISSION

16 CFR Part 305

RIN 3084-AB15

Energy Labeling Rule; Extension of Comment Period

AGENCY: Federal Trade Commission.

ACTION: Notice of proposed rulemaking; extension of comment period.

SUMMARY: The Federal Trade Commission (“FTC” or “Commission”) is extending the deadline for filing comments on its Notice of Proposed Rulemaking (“NPRM”) regarding the Energy Labeling Rule.

DATES: The deadline for comments on the NPRM published on February 2, 2024 (89 FR 7566) is extended. Comments must be received on or before April 19, 2024.

ADDRESSES: Interested parties may file a comment online or on paper by following the instructions in the Comment Submissions part of the SUPPLEMENTARY INFORMATION section below. Write “Energy Labeling Rule (16 CFR part 305) (Matter No. R611004)” on your comment, and file your comment online at https://www.regulations.gov, by following the instructions on the web-based form. If you prefer to file your comment on paper, mail your comment to the following address: Federal Trade Commission, Office of the Secretary, 600 Pennsylvania Avenue NW, Mail Stop H-144 (Annex L), Washington, DC 20580.

FOR FURTHER INFORMATION CONTACT: Hampton Newsome (202-326-2889), or Hong Park (202-326-2158), Attorneys, Division of Enforcement, Bureau of Consumer Protection, Federal Trade Commission, 600 Pennsylvania Avenue NW, Washington, DC 20580.

SUPPLEMENTARY INFORMATION:

I. Comment Period Extension

On February 2, 2024 (89 FR 7566), the Commission published in the Federal Register an NPRM concerning the Energy Labeling Rule (“Rule”), with an April 2, 2024, comment deadline. The Commission published the NPRM to seek public comments on potential changes to the Rule, including: (1) labels for air cleaners, clothes dryers, miscellaneous refrigeration products, and portable electric spas; (2) modifications to existing labels for clothes washers, televisions, and several heating products; (3) revisions to the current requirements for affixing labels on showroom models; and (4) several minor amendments to improve the Rule. The Consumer Technology Association (“CTA”), representing interested industry members, has subsequently requested a 17-day extension of the public comment period in order to complete consumer research which it intends to submit in this proceeding.¹ No commenters have objected to CTA's request.

¹ See Comment of CTA, Docket ID FTC-2024-0008-0006 and FTC-2024-0008-0007 (Feb. 20 and 26, 2024) at https://www.regulations.gov/.

The Commission agrees that allowing additional time for filing comments in response to the NPRM would help facilitate the creation of a more complete record. Given the short duration of the extension, the specificity of the request, and the lack of opposition to such an extension, the Commission has therefore decided to extend the comment period to April 19, 2024. This extension will provide CTA adequate time to complete its consumer research.

II. Request for Comment

You can file a comment online or on paper. For the FTC to consider your comment, we must receive it on or before April 19, 2024. Write “Energy Labeling Rule (16 CFR part 305) (Matter No. R611004)” on your comment. Because of the agency's heightened security screening, postal mail addressed to the Commission will be subject to delay. As a result, we strongly encourage you to submit your comments online through the https://www.regulations.gov website. To ensure that the Commission considers your online comment, please follow the instructions on the web-based form. Your comment—including your name and your State—will be placed on the public record of this proceeding, including the https://www.regulations.gov website. As a matter of discretion, the Commission tries to remove individuals' home contact information from comments before placing them on https://www.regulations.gov.

If you file your comment on paper, write “Energy Labeling Rule (16 CFR part 305) (Matter No. R611004)” on your comment and on the envelope, and mail it to the following address: Federal Trade Commission, Office of the Secretary, 600 Pennsylvania Avenue NW, Mail Stop H-144 (Annex L), Washington, DC 20580. If possible, submit your paper comment to the Commission by overnight service.

Because your comment will be placed on the publicly accessible website at www.regulations.gov, you are solely responsible for making sure that your comment does not include any sensitive or confidential information. In particular, your comment should not include any sensitive personal information, such as your or anyone else's Social Security number; date of birth; driver's license number or other State identification number, or foreign country equivalent; passport number; financial account number; or credit or debit card number. You are also solely responsible for making sure that your comment does not include any sensitive health information, such as medical records or other individually identifiable health information. In addition, your comment should not include any “trade secret or any commercial or financial information which . . . is privileged or confidential”—as provided by section 6(f) of the FTC Act, 15 U.S.C. 46(f), and FTC Rule 4.10(a)(2), 16 CFR 4.10(a)(2)—including competitively sensitive information such as costs, sales statistics, inventories, formulas, patterns, devices, manufacturing processes, or customer names.

Comments containing material for which confidential treatment is requested must be filed in paper form, must be clearly labeled “Confidential,” and must comply with FTC Rule 4.9(c), 16 CFR 4.9(c). In particular, the written request for confidential treatment that accompanies the comment must include the factual and legal basis for the request, and must identify the specific portions of the comment to be withheld from the public record. See FTC Rule 4.9(c). Your comment will be kept confidential only if the General Counsel grants your request in accordance with the law and the public interest. Once your comment has been posted publicly at www.regulations.gov, we cannot redact or remove your comment unless you submit a confidentiality request that meets the requirements for such treatment under FTC Rule 4.9(c), and the General Counsel grants that request.

Visit the FTC website to read this document and the news release describing it, and visit https://www.regulations.gov/docket/FTC-2024-0008 to read a plain-language summary of the proposed rule. The FTC Act and other laws that the Commission administers permit the collection of public comments to consider and use in this proceeding as appropriate. The Commission will consider all timely and responsive public comments that it receives on or before April 19, 2024. For information on the Commission's privacy policy, including routine uses permitted by the Privacy Act, see https://www.ftc.gov/site-information/privacy-policy.

By direction of the Commission.
Joel Christie,
Acting Secretary.

[FR Doc. 2024-07077 Filed 4-1-24; 8:45 am]

BILLING CODE 6750-01-P